DEPARTMENT OF THE TREASURY

Internal Revenue Service

26 CFR Part 1

[REG-106384-20]

RIN 1545-BQ14

Mortality Tables for Determining Present Value Under Defined Benefit Pension Plans

AGENCY: Internal Revenue Service (IRS), Treasury.

ACTION: Notice of proposed rulemaking and notice of public hearing.

SUMMARY: This document sets forth proposed regulations prescribing mortality tables to be used for most defined benefit pension plans. The tables specify the probability of survival year-by-year for an individual based on age, gender, and other factors. The tables are used (together with other actuarial assumptions) to calculate the present value of a stream of expected future benefit payments for purposes of determining the minimum funding requirements for the plan. These mortality tables are also relevant for determining the minimum required amount of a lump-sum distribution from such a plan. These regulations affect participants in, beneficiaries of, employers maintaining, and administrators of certain defined benefit pension plans.

DATES: Written or electronic comments must be received by June 9, 2022. A public hearing on these proposed regulations has been scheduled for June 28, 2022 at 10 a.m. EST. Requests to speak and outlines of topics to be discussed at the public hearing must be received by June 9, 2022. If no outlines are received by June 9, 2022, the public hearing will be cancelled. Requests to attend the public hearing must be received by 5 p.m. EST on June 24, 2022. The telephonic hearing will be made accessible to people with disabilities. Requests for special assistance during the telephonic hearing must be received by June 23, 2022.

ADDRESSES: Commenters are strongly encouraged to submit public comments electronically. Submit electronic submissions via the Federal eRulemaking Portal at www.regulations.gov (indicate IRS and REG-106384-20) by following the online instructions for submitting comments. Once submitted to the Federal eRulemaking Portal, comments cannot be edited or withdrawn. The IRS expects to have limited personnel available to process public comments that are submitted on paper through mail. Until further notice, any comments submitted on paper will be considered to the extent practicable. The Department of the Treasury (the Treasury Department) and the IRS will publish for public availability any comment submitted electronically, and to the extent practicable on paper, to its public docket. Send paper submissions to: CC:PA:LPD:PR (REG-106384-20), room 5203, Internal Revenue Service, P.O. Box 7604, Ben Franklin Station, Washington, DC 20044.

For those requesting to speak during the hearing, send an outline of topic submissions electronically via the Federal eRulemaking Portal at www.regulations.gov (indicate IRS and REG-106384-20).

Individuals who want to testify (by telephone) at the public hearing must send an email to publichearings@irs.gov to receive the telephone number and access code for the hearing. The subject line of the email must contain the regulation number REG-106384-20 and the word TESTIFY. For example, the subject line may say: Request to TESTIFY at Hearing for REG-106384-20. The email should include a copy of the speaker's public comments and outline of topics. Individuals who want to attend (by telephone) the public hearing must also send an email to publichearings@irs.gov to receive the telephone number and access code for the hearing. The subject line of the email must contain the regulation number REG-106384-20 and the word ATTEND. For example, the subject line may say: Request to ATTEND Hearing for REG-106384-20. To request special assistance during the telephonic hearing contact the Publications and Regulations Branch of the Office of Associate Chief Counsel (Procedure and Administration) by sending an email to publichearings@irs.gov (preferred) or by telephone at (202) 317-5177 (not a toll-free number).

FOR FURTHER INFORMATION CONTACT: Concerning the regulations, Arslan Malik or Linda Marshall at (202) 317-6700; concerning submission of comments and outlines of topics for the public hearing, call Regina Johnson at (202) 317-6901 (not toll-free numbers) or email publichearings@irs.gov.

SUPPLEMENTARY INFORMATION:

Background

Section 412 of the Internal Revenue Code (Code) prescribes minimum funding requirements for defined benefit pension plans, and section 430 specifies the minimum funding requirements that apply generally to defined benefit plans that are not multiemployer plans.¹ Section 430(a) defines the minimum required contribution by reference to the plan's funding target for the plan year. Under section 430(d)(1), a plan's funding target for a plan year generally is the present value of all benefits accrued or earned under the plan as of the first day of that plan year.

¹ Section 302 of the Employee Retirement Income Security Act of 1974, Public Law 93-406, as amended (ERISA) sets forth funding rules that are parallel to those in section 412 of the Code, and section 303 of ERISA sets forth additional funding rules for defined benefit plans (other than multiemployer plans) that are parallel to those in section 430 of the Code. Pursuant to section 101 of Reorganization Plan No. 4 of 1978, 5 U.S.C. App., as amended, the Secretary of the Treasury has interpretive jurisdiction over the subject matter addressed in these proposed regulations for purposes of ERISA, as well as the Code. Thus, these proposed Treasury regulations issued under section 430 of the Code also apply for purposes of section 303 of ERISA.

Section 430(h)(3) provides rules regarding the mortality tables to be used under section 430. Under section 430(h)(3)(A), except as provided in section 430(h)(3)(C) or (D), the Secretary is to prescribe by regulation mortality tables to be used in determining any present value or making any computation under section 430. Those mortality tables are to be based on the actual mortality experience of pension plan participants and projected trends in that experience. In prescribing those mortality tables, the Secretary is required to take into account results of available independent studies of mortality of individuals covered by pension plans. Under section 430(h)(3)(B), the Secretary is required to revise any mortality table in effect under section 430(h)(3)(A) at least every 10 years to reflect actual mortality experience of pension plan participants and projected trends in that experience. Under section 430(h)(3)(C), a plan sponsor is permitted to request the Secretary's approval to use plan-specific substitute mortality tables that meet requirements specified in the statute rather than the generally applicable mortality tables. If approved, these substitute mortality tables are used to determine present values and make computations under section 430 during the period of consecutive plan years (not to exceed 10) specified in the request.

Section 430(h)(3)(D) provides for the use of separate mortality tables with respect to certain individuals who are entitled to benefits on account of disability. These separate mortality tables are permitted to be used with respect to disabled individuals in lieu of the generally applicable mortality tables provided pursuant to section 430(h)(3)(A) or the substitute mortality tables under section 430(h)(3)(C). The Secretary is to establish separate tables for individuals with disabilities occurring in plan years beginning before January 1, 1995, and for individuals with disabilities occurring in later plan years, with the mortality tables for individuals with disabilities occurring in those later plan years applying only to individuals who are disabled within the meaning of Title II of the Social Security Act.

Section 417(e)(3) generally provides that the present value of certain benefits under a qualified pension plan (including single-sum distributions) must not be less than the present value of the accrued benefit using applicable interest rates and the applicable mortality table. Section 417(e)(3)(B) defines the term “applicable mortality table” as the mortality table specified for the plan year for minimum funding purposes under section 430(h)(3)(A) (without regard to the rules for substitute mortality tables under section 430(h)(3)(C) or mortality tables for disabled individuals under section 430(h)(3)(D)), modified as appropriate by the Secretary. The modifications made by the Secretary to the section 430(h)(3)(A) mortality table to determine the section 417(e)(3)(B) applicable mortality table are not addressed in these proposed regulations. Revenue Ruling 2007-67, 2007-2 CB 1047, describes the modifications that are currently applied to determine the section 417(e)(3)(B) applicable mortality table.

Final regulations under section 430(h)(3) were published in the Federal Register on October 5, 2017 in TD 9826, 82 FR 46388 (the 2017 regulations). Section 1.430(h)(3)-1 prescribes base mortality tables and a set of mortality improvement rates, which may be reflected through the use of either generational mortality tables or static mortality tables. The generational mortality tables are a series of mortality tables, one for each year of birth, each of which fully reflects projected trends in mortality rates. The static mortality tables (which are updated annually ²) use a single mortality table for all years of birth to approximate the present value that would be determined using the generational mortality tables.

² Static mortality tables were published in Notice 2017-60, 2017-43 IRB 365, Notice 2018-02, 2018-2 IRB 281, Notice 2019-26, 2019-15 IRB 943, Notice 2019-67, 2019-52 IRB 1510, and Notice 2020-85, 2020-51 IRB 1645.

The mortality tables included in the 2017 regulations are based on the mortality tables included in the RP-2014 Mortality Tables Report ³ (referred to in this preamble as the RP-2014 mortality tables), which was released by the Retirement Plan Experience Committee (RPEC) of the Society of Actuaries (SOA) in October 2014 (as revised in November 2014), and a set of mortality improvement rates (the Scale MP-2016 rates) as released by RPEC.⁴ In 2016, RPEC initiated a study of private-sector retirement plans in the U.S. in order to provide an update to RP-2014, and in 2019, RPEC issued the Pri-2012 Private Retirement Plans Mortality Tables Report (Pri-2012 Report).⁵

³ This report is available at https://www.soa.org/globalassets/assets/files/research/exp-study/research-2014-rp-report.pdf.

⁴ This report is available at https://www.soa.org/globalassets/assets/Files/Research/Exp-Study/mortality-improvement-scale-mp-2016.pdf.

⁵ This report is available at https://www.soa.org/globalassets/assets/files/resources/experience-studies/2019/pri-2012-mortality-tables-report.pdf.

In Notice 2019-67 (which provides mortality improvement rates and static mortality tables for 2021), the Treasury Department and the IRS asked for comments regarding future mortality tables under section 430(h)(3)(A). The notice identified the mortality tables in the Pri-2012 Report as a potential source for developing updated mortality tables under section 430(h)(3)(A) and requested comments regarding (1) whether there are other studies of actual mortality experience of individuals covered by pension plans and projected trends in that experience that should be considered for use in developing updated mortality tables under section 430(h)(3)(A), such as studies that examine the mortality experience of individuals covered by large public-sector pension plans, and (2) if the mortality tables in the Pri-2012 Report were to be used to develop updated mortality tables under section 430(h)(3)(A), which of the tables in that report should be used. In October 2021, RPEC published the Mortality Improvement Scale MP-2021 Report (MP-2021 Report), which is the latest update to its study on mortality improvement.⁶ In response to the request for comments in Notice 2019-67, the Treasury Department and the IRS received seven comments. The comments are discussed in the Explanation of Provisions.

⁶ This report is available at https://www.soa.org/globalassets/assets/files/resources/experience-studies/2021/2021-mp-scale-report.pdf.

The standards prescribed for developing the mortality tables under 430(h)(3)(A) are the same as the standards that are prescribed for developing mortality tables for multiemployer plans under section 431(c)(6)(D)(iv)(II) (which are used to determine current liability in order to determine the minimum full funding limitation under section 431(c)(6)(B)). See § 1.431(c)(6)-1 (providing that the same mortality assumptions that apply for purposes of section 430(h)(3)(A) and § 1.430(h)(3)-1(a) are used to determine a multiemployer plan's current liability). These standards also apply for CSEC plans described in section 414(y) for purposes of developing mortality tables that are used for purposes of section 433(h)(3)(B)(i) (to determine current liability in order to determine the minimum full funding limitation under section 433(c)(2)(C) and the funded current liability percentage under section 433(i)). See § 1.433(h)(3)-1 (providing that the same mortality assumptions that apply for purposes of section 430(h)(3)(A) and § 1.430(h)(3)-1(a) are used to determine a CSEC plan's current liability).

Explanation of Provisions

These proposed regulations set forth the methodology that the Treasury Department and the IRS intend to use to update the generally applicable mortality tables that are used to determine present value or make any computation under section 430. Pursuant to section 417(e)(3)(B), a modified version of these updated tables would be used for purposes of determining the amount of a single-sum distribution (or another accelerated form of distribution). In addition, these tables would be used to determine current liability for multiemployer plans under section 431(c)(6) and CSEC plans under section 433(h).

The methodology for developing updated tables under section 430(h)(3)(A) is being proposed pursuant to the requirement under section 430(h)(3)(B) to revise the mortality tables used under section 430 to reflect the actual mortality experience of pension plan participants and projected trends in that experience. As under the 2017 regulations, the methodology involves the separate determination of base mortality tables and the projection of mortality improvement.

A. Base Mortality Tables

The base mortality tables proposed for use under section 430(h)(3)(A) are derived from the tables set forth in the Pri-2012 Report. After reviewing the Pri-2012 Report and comments received in response to Notice 2019-67, the Treasury Department and the IRS have determined that the experience study used to develop the Pri-2012 Report is the best available study of the actual mortality experience of pension plan participants (other than disabled individuals). Accordingly, the mortality tables in the Pri-2012 Report are the foundation for the base mortality tables used to project the mortality of pension plan participants under these proposed regulations. Like the mortality tables provided in the 2017 regulations, the mortality tables set forth in these proposed regulations are gender-distinct and provide separate non-annuitant and annuitant mortality rates.

Unlike the Pri-2012 Report, these proposed regulations do not provide separate tables for annuitants who are retirees and annuitants who are contingent beneficiaries. In response to the request for comments in Notice 2019-67, most commenters recommended against the use of separate mortality tables for retirees and contingent beneficiaries because: (1) Those separate mortality tables are complex to apply on an exact basis; (2) applying those mortality tables would require actuaries to use historical data that may be difficult to obtain; and (3) the use of those separate mortality tables would not have a significant effect in measuring a plan's liabilities. After reviewing the comments, the Treasury Department and the IRS concluded that the regulations should not provide separate mortality tables for annuitants who are retirees and annuitant who are contingent beneficiaries. Accordingly, these proposed regulations provide annuitant mortality tables that combine the mortality experience of retirees and contingent beneficiaries.

As under the 2017 regulations, these proposed regulations provide that the annuitant mortality tables are applied to determine the present value of benefits for an annuitant. For a non-annuitant, the non-annuitant mortality tables are applied for the periods before the participant is projected to commence receiving benefits, and the annuitant mortality tables are used for later periods. With respect to a beneficiary of a participant, the annuitant mortality tables apply for the period beginning with each assumed commencement of benefits for the participant. If the participant has died (or to the extent the participant is assumed to die before commencing benefits), the annuitant mortality tables apply with respect to the beneficiary for the period beginning with each assumed commencement of benefits for the beneficiary.

These proposed regulations set forth base tables that are to be used to develop the mortality tables for future years. These base tables have a base year of 2012 (the central year of the experience study used to develop the mortality tables in the Pri-2012 Report). These base tables generally have the same mortality rates as the employee and non-disabled annuitant mortality rates that were released by RPEC in connection with the Pri-2012 Report. However, these base tables also include non-annuitant mortality rates for ages below age 18 and above age 80 and annuitant mortality rates for ages below age 50. This generally is the same approach that was used to develop the base mortality tables in the 2017 regulations.

The non-annuitant mortality rates for ages above age 80 were developed by (1) using the annuitant rates from the base mortality tables for ages 90 and older, and (2) interpolating between the rates for age 80 and age 90 in order to produce a smooth transition between the age 80 rates from the non-annuitant tables to the age 90 rates from the annuitant tables. The interpolation uses increasing fractions with a denominator of 55 to allocate the total difference between the rates at ages 80 and 90 over those 10 years. Thus, the rate at age 81 is set equal to the rate at age 80 plus 1/55 of the total difference, the age 82 rate is equal to the rate at age 81 plus 2/55 of the total difference (so that the age 82 rate is equal to the rate at age 80 plus 3/55 of the total difference), and so on for other ages.

A similar approach was used to develop annuitant rates for ages below age 50 for males and 52 for females. The annuitant rates for ages under age 50 for males and 52 for females were determined by (1) using the non-annuitant rates from the base mortality tables for ages 18 to 40, and (2) interpolating between the rates for age 40 and a later age, using the same methodology described in the preceding paragraph. The later age for males was 50 and for females was 52 (requiring that a denominator of 78 be substituted for 55 when that methodology was applied for females). This method produces a smooth transition between the age 40 rates from the non-annuitant tables and the age 50 rates for males, and age 52 rates for females, from the annuitant tables. In addition, some anomalous rates for female annuitants at ages 55 and 56 in the Pri-2012 Report were smoothed by using a straight linear interpolation between the age 54 rates and the age 57 rates from the female annuitant table. For ages below age 18, both the non-annuitant and annuitant rates incorporate the juvenile rates from the Pri-2012 Report.

B. Mortality Improvement

These proposed regulations use the Scale MP-2021 Rates (the mortality improvement scale in the MP-2021 Report) for valuation dates in the 2023 calendar year. This mortality improvement scale was developed using the same underlying methodology used to develop earlier mortality improvement scales but reflects historical population data through 2019 and the change to the RPEC-selected assumptions for the long-term rate of mortality improvement that was first incorporated in the Mortality Improvement Scale MP-2020 Report.⁷ The Treasury Department and the IRS understand that RPEC expects to issue updated mortality improvement rates that reflect new data for mortality improvement trends for the general population on an annual basis. The Treasury Department and the IRS expect to take those updates into account in determining the mortality rates to be used under section 430(h)(3) for valuation dates in years after 2023. Those rates will be specified in guidance to be published in the Internal Revenue Bulletin. See § 601.601(d).

⁷ This report is available at https://www.soa.org/globalassets/assets/files/resources/experience-studies/2020/mortality-improvement-scale-mp-2020.pdf.

C. Use of Static Tables for Small Plans

The 2017 regulations provide for the use of separate generational non-annuitant and annuitant mortality tables and separate static non-annuitant and annuitant mortality tables. The preamble to those regulations explains that static mortality tables are permitted to be used (notwithstanding that generational mortality tables yield more accurate results) because of the limitations of some current actuarial software that is not designed to use generational tables. Since the issuance of the 2017 regulations, the software needed to use generational mortality tables has become widely used and is often used for other business needs such as financial accounting. There is no longer a need to allow the use of static mortality tables for most plans because most actuarial firms have the capability to use generational mortality tables. Requiring most employers to use generational mortality tables also minimizes anti-selection by plan sponsors who determine that the use of static mortality tables results in lower minimum funding requirements. Accordingly, these proposed regulations eliminate the use of separate static non-annuitant and annuitant mortality tables and require the use of generational mortality tables for plans that are not considered small plans.

These proposed regulations continue to allow the use of static mortality tables for small plans (defined as plans with 500 or fewer participants), as well as for multiemployer and CSEC plans. However, the static mortality tables that may be used for these plans are combined tables reflecting non-annuitant and annuitant mortality rates. These tables are constructed from a blend of non-annuitant and annuitant mortality rates based on the underlying data used in developing the Pri-2012 Report.

Applicability Date

These regulations are proposed to apply to plan years beginning on or after January 1, 2023.

Other Matters

A. Effect of Regulations on Previously Approved Substitute Mortality Tables

The 2017 regulations also included rules regarding the use of plan-specific mortality tables under section 430(h)(3)(C), which are set forth in § 1.430(h)(3)-2.⁸ Section 1.430(h)(3)-2(c)(6)(ii) provides for the early termination of the use of substitute mortality tables in certain circumstances, including pursuant to a replacement of the mortality tables specified in § 1.430(h)(3)-1. Under § 1.430(h)(3)-2(c)(6)(ii)(E), the early termination pursuant to such a replacement must be effective as of a date specified in guidance published in the Internal Revenue Bulletin. Except as described in the next paragraph, the Treasury Department and the IRS do not intend to require the early termination of previously approved substitute mortality tables in connection with the proposed replacement of the generally applicable mortality tables.

⁸ Rev. Proc. 2017-55, 2017-43 IRB 373, sets forth the procedure by which a plan sponsor of a defined benefit plan may request and obtain approval for the use of plan-specific substitute mortality tables in accordance with section 430(h)(3)(C).

Under § 1.430(h)(3)-2(c)(6)(ii)(C), the use of substitute mortality tables is terminated early if there is a significant change in the individuals covered by the plan. As defined in § 1.430(h)(3)-2(c)(6)(iii)(A), a significant change is either an increase or decrease in the number of individuals covered by the substitute mortality table for the plan year of more than 20 percent of the average number of individuals in that population over the years covered by the experience study on which the substitute mortality tables are based. However, under § 1.430(h)(3)-2(c)(6)(iii)(A), a change in coverage is not treated as significant if the plan's actuary certifies in writing to the satisfaction of the Commissioner that the substitute mortality tables used for the plan population continue to be accurately predictive of future mortality of that population (taking into account the effect of the change in the population).

When final regulations providing for the replacement of mortality tables under section 430 are issued, the Treasury Department and the IRS anticipate issuing guidance in the Internal Revenue Bulletin pursuant to § 1.430(h)(3)-2(c)(6)(ii)(E) that will require the early termination of a plan's previously approved substitute mortality table only if the plan has experienced a significant change in coverage under § 1.430(h)(3)-2(c)(6)(iii). The early termination would apply without regard to any plan actuary certification that the substitute mortality tables used for the plan population continue to be accurately predictive of future mortality of that population.

B. Impact of COVID-19 on Mortality Rates

The mortality improvement rates in these proposed regulations are based on the MP-2021 Report, which was prepared in 2021 based on the most recent data available at that time (estimated 2019 calendar year data). Accordingly, the MP-2021 mortality improvement scale does not take into account any mortality experience in calendar years 2020 and 2021, which are the first years affected by the COVID-19 pandemic. In selecting their assumed long-term improvement rates, RPEC did not make any adjustments to take into account any effects of COVID-19 on mortality rates in the long term because there was no consensus on COVID-19's effect on expected future mortality experience.⁹ Accordingly, the mortality improvement rates in these regulations do not take into account the impact of the COVID-19 pandemic.

⁹ RPEC cited uncertainty relating to the effectiveness of vaccines and treatments, severity of future variants, and the long-term effect of having recovered from COVID-19 on an employee's health.

The MP-2021 Report includes a review of actual mortality data from 2020 and a portion of 2021. For the 40-week period starting March 22, 2020, the review indicated that the number of deaths was approximately 120 percent of the expected number. For 2021, that ratio dropped to 110 percent in the spring, before increasing in the summer. The number of deaths attributable to the COVID-19 pandemic has remained high during the early part of 2022. These higher mortality rates do not indicate that the MP-2021 mortality improvement scale is flawed, but merely reflect that the model did not anticipate COVID-19 in projecting the mortality rates for these years.

The mortality rates provided in these proposed regulations would apply starting in 2023. If the impact of COVID-19 on mortality experience is viewed as only a short-term phenomenon, the mere fact that the model in the MP-2021 Report (upon which these proposed regulations are based) did not reflect the actual mortality experience for 2020 through 2022 does not mean that the mortality rates in these proposed regulations are inappropriate because it is not clear to what extent the increased mortality associated with COVID-19 will continue for 2023 and later years. However, to the extent there is a long-term higher mortality rate from COVID-19, the Treasury Department and the IRS expect that RPEC will reflect the long-term impact of COVID-19 in future mortality improvement scales, which could be specified for use in future guidance. The Treasury Department and the IRS request comments about how the data for periods in which mortality experience for plan participants has been significantly affected by the COVID-19 pandemic should be taken into account in future mortality improvement rates under these regulations and future base mortality tables.

These proposed regulations do not change any of the rules or procedures required for employers to request substitute mortality tables. The Treasury Department and the IRS request comments about whether the rules and procedures relating to development of substitute mortality tables should be modified to recognize the potential that the mortality experience for the period of the COVID-19 pandemic is not accurately predictive of the future mortality experience for participants of a plan for which substitute mortality tables are requested.

Incorporation by Reference

Section 1.430(h)(3)-1(b)(1)(iii) of the proposed regulations provides that the mortality improvement rates used to construct generational tables to be used for valuation dates occurring during 2023 are the Scale MP-2021 Rates, which are included in the Mortality Improvement Scale MP-2021 Report. The Office of the Federal Register (OFR) has regulations concerning incorporation by reference. 1 CFR part 51. These regulations require that agencies must discuss in the preamble to a rule or proposed rule the way in which materials that the agency incorporates by reference are reasonably available to interested persons, and how interested parties can obtain the materials. 1 CFR 51.5(b).

The Scale MP-2021 Rates and the Mortality Improvement Scale MP-2021 Report are described in this preamble under the heading “B. Mortality Improvement” in the Explanation of Provisions section of this preamble. The Mortality Improvement Scale MP-2021 Report was issued by the Retirement Plans Experience Committee of the Society of Actuaries on October 27, 2021, and is available at https://www.soa.org/resources/experience-studies/2021/mortality-improvement-scale-mp-2021.

Statement of Availability of IRS Documents

IRS Revenue Rulings, Revenue Procedures, and Notices cited in this document are published in the Internal Revenue Bulletin (or Cumulative Bulletin) and are available from the Superintendent of Documents, U.S. Government Printing Office, Washington, DC 20402, or by visiting the IRS website at www.irs.gov.

Special Analyses

These regulations are not subject to review under section 6(b) of Executive Order 12866 pursuant to the Memorandum of Agreement (April 11, 2018) between the Treasury Department and the Office of Management and Budget regarding review of tax regulations.

Pursuant to the Regulatory Flexibility Act (5 U.S.C. chapter 6), it is hereby certified that the regulations will not have a significant economic impact on a substantial number of small entities. The only provision that increases regulatory burden is § 1.430(h)(3)-1(b), which generally requires the use of generational mortality tables. However, under § 1.430(h)(3)-1(c), small entities are not required to use generational mortality tables. Therefore, the proposed rule would not have a significant economic impact on a substantial number of small entities.

Pursuant to section 7805(f) of the Code, these proposed regulations will be submitted to the Chief Counsel for Advocacy of the Small Business Administration for comment on their impact on small business.

Comments and Public Hearing

Before these proposed amendments to the regulations are adopted as final regulations, consideration will be given to comments that are submitted timely to the IRS as prescribed in the preamble under the ADDRESSES section. The Treasury Department and the IRS request comments on all aspects of these proposed regulations.

A public hearing is being held by teleconference on June 28, 2022, beginning at 10 a.m. EST. The rules of 26 CFR 601.601(a)(3) apply to the hearing. Persons who wish to present oral comments by telephone at the hearing must submit electronic or written comments and an outline of the topics to be addressed and the time to be devoted to each topic by June 9, 2022, as prescribed in the preamble under the ADDRESSES section.

A period of 10 minutes will be allocated to each person for making comments. After the deadline for receiving outlines has passed, the IRS will prepare an agenda containing the schedule of speakers. Copies of the agenda will be made available at www.regulations.gov, search IRS and REG-106384-20. Copies of the agenda will also be available by emailing a request to publichearings@irs.gov. Please put “REG-106384-20 Agenda Request” in the subject line of the email.

Drafting Information

The principal authors of these regulations are Arslan Malik and Linda S.F. Marshall of the Office of Associate Chief Counsel (Employee Benefits, Exempt Organizations, and Employment Taxes). However, other personnel from the Treasury Department and the IRS participated in the development of these regulations.

List of Subjects in 26 CFR Part 1

Income taxes, Reporting and recordkeeping requirements.

Amendments to the Regulations

Accordingly, 26 CFR part 1 is proposed to be amended as follows:

PART 1—INCOME TAXES

Paragraph 1. The authority citation for part 1 continues to read, in part, as follows:

Authority: 26 U.S.C. 7805 * * *

Par. 2. Section 1.430(h)(3)-1 is revised to read as follows:

§ 1.430 (h)(3)-1 Mortality tables used to determine present value.

(a) Overview—(1) Standard mortality tables. This section sets forth rules for the mortality tables to be used in determining present value or making any computation under section 430. These mortality tables include—

(i) Generational mortality tables described in paragraph (b) of this section; and

(ii) Static mortality tables for small plans described in paragraph (c) of this section.

(2) Alternative tables—(i) Plan-specific mortality tables. In lieu of using the mortality tables provided under this section, plan-specific substitute mortality tables are permitted to be used for purposes of section 430 pursuant to section 430(h)(3)(C), provided that the requirements of § 1.430(h)(3)-2 are satisfied.

(ii) Disabled individuals. In lieu of using the mortality tables provided under this section, mortality tables for disabled individuals are permitted to be used pursuant to section 430(h)(3)(D). These tables are provided in guidance published in the Internal Revenue Bulletin. See § 601.601(d) of this chapter.

(b) Generational mortality tables—(1) In general—(i) Construction of generational mortality tables. The generational mortality tables that are permitted to be used under section 430(h)(3)(A) and paragraph (a)(1)(i) of this section are constructed from the base mortality tables described in paragraph (b)(1)(ii) of this section and the mortality improvement rates described in paragraph (b)(1)(iii) of this section.

(ii) Base mortality tables. The base mortality tables are set forth in paragraph (d) of this section. The base year for those tables is 2012.

(iii) Mortality improvement rates. The mortality improvement rates for valuation dates occurring during 2023 are the Scale MP-2021 Rates.

Note 1 to paragraph (b)(1)(iii): For later years, updated mortality improvement rates that take into account new data for mortality improvement trends of the general population will also be incorporated by reference.

(iv) Incorporation by reference. The material listed in this paragraph (b)(1)(iv) is incorporated by reference into this section with the approval of the Director of the Federal Register under 5 U.S.C. 552(a) and 1 CFR part 51. This material is available for inspection at the IRS and at the National Archives and Records Administration (NARA). Contact IRS at: Qualified Plans Branch 1, CC:EEE:QP1, 1111 Constitution Avenue NW, Washington, DC 20224; (202) 317-6700; www.irs.gov/retirement-plans/interest-rates-tables. For information on the availability of this material at NARA, email: fr.inspection@nara.gov, or go to: www.archives.gov/federal-register/cfr/ibr-locations.html. The material is available from the Society of Actuaries at: Society of Actuaries, 475 N. Martingale Rd., Suite 600, Schaumburg, IL 60173; (847) 706-3500; https://www.soa.org/resources/experience-studies/2021/mortality-improvement-scale-mp-2021/.

(A) The Scale MP-2021 Rates.

(B) [Reserved]

(2) Application of mortality improvement rates—(i) In general. Under the generational mortality tables described in this paragraph (b), the probability of an individual's death at a particular age in the future is determined as the individual's base mortality rate that applies at that age (that is, the applicable mortality rate from the tables set forth in paragraph (d) of this section for that age, gender, and status as an annuitant or a non-annuitant) multiplied by the cumulative mortality improvement factor for the individual's gender and for that age for the period from 2012 through the calendar year in which the individual is projected to reach the particular age. Paragraph (b)(3) of this section shows how the base mortality tables in paragraph (d) of this section and the mortality improvement rates for valuation dates occurring during 2023 are combined to determine projected mortality rates.

(ii) Cumulative mortality improvement factor. The cumulative mortality improvement factor for an age and gender for a period is the product of the annual mortality improvement factors for that age and gender for each year within that period.

(iii) Annual mortality improvement factor. The annual mortality improvement factor for an age and gender for a year is 1 minus the mortality improvement rate that applies for that age and gender for that year. If that annual mortality improvement rate is greater than 1 (corresponding to a negative mortality improvement rate), then the projected mortality rate for that age and gender for that year is greater than the projected mortality rate for the same age and gender for the preceding year.

(3) Example of calculation—(i) Calculation of mortality rate. The mortality rate for 2023 that is applied to male annuitants who are age 67 in 2023 is equal to the product of the mortality rate for 2012 that applied to male annuitants who were age 67 in 2012 (0.01288) and the cumulative mortality improvement factor for age 67 males from 2012 to 2023. The cumulative mortality improvement factor for age 67 males for the period from 2012 to 2023 is 0.9919, and the mortality rate for 2023 for male annuitants who are age 67 in that year would be 0.01278, as shown in the following table.

Table 1 to Paragraph (b)(3)(i)
Calendar year | Mortality improvement rate | Annual mortality improvement factor (1-mortality improvement rate) | Cumulative mortality improvement factor | Mortality rate
2012 | n/a | n/a | n/a | 0.01288
2013 | 0.0052 | 0.9948 | 0.9948 |
2014 | 0.0027 | 0.9973 | 0.9921 |
2015 | 0.0009 | 0.9991 | 0.9912 |
2016 | (0.0003) | 1.0003 | 0.9915 |
2017 | (0.0010) | 1.0010 | 0.9925 |
2018 | (0.0016) | 1.0016 | 0.9941 |
2019 | (0.0016) | 1.0016 | 0.9957 |
2020 | (0.0010) | 1.0010 | 0.9967 |
2021 | 0.0000 | 1.0000 | 0.9967 |
2022 | 0.0015 | 0.9985 | 0.9952 |
2023 | 0.0033 | 0.9967 | 0.9919 | 0.01278

(ii) Probability of survival for an individual. After the projected mortality rates are derived for each age for each year, the rates are used to calculate the present value of a benefit stream that depends on the probability of survival year-by-year. For example, for purposes of calculating the present value (for a 2023 valuation date) of future payments in a benefit stream payable for a male annuitant who is age 67 in 2023, the probability of survival for the annuitant is based on the mortality rate for a male annuitant who is age 67 in 2023 (0.01278), and the projected mortality rate for a male annuitant who will be age 68 in 2024 (0.01378), age 69 in 2025 (0.01489), and so on.

(4) Use of the tables—(i) Separate tables for annuitants and non-annuitants. Separate mortality tables are provided for use for annuitants and non-annuitants. The non-annuitant mortality tables are applied to determine the probability of survival for a non-annuitant for the period before the non-annuitant is projected to commence receiving benefits. The annuitant mortality tables are applied to determine the present value of benefits for each annuitant. In addition, the annuitant mortality tables are applied for each non-annuitant with respect to each assumed commencement of benefits for the period beginning with that assumed commencement. For purposes of this section, an annuitant means a plan participant who has commenced receiving benefits and a non-annuitant means a plan participant who has not yet commenced receiving benefits (for example, an active employee or a terminated vested participant). A participant whose benefit has partially commenced is treated as an annuitant with respect to the portion of the benefit that has commenced and treated as a non-annuitant with respect to the balance of the benefit. In addition, with respect to a beneficiary of a participant, the annuitant mortality tables apply for the period beginning with each assumed commencement of benefits for the participant. If the participant has died (or to the extent the participant is assumed to die before commencing benefits), the annuitant mortality tables apply with respect to the beneficiary for the period beginning with each assumed commencement of benefits for the beneficiary.

(ii) Examples of calculation using separate non-annuitant and annuitant tables. With respect to a 45-year-old active participant who is projected to commence receiving an annuity at age 55, the funding target is determined using the non-annuitant mortality tables for the period before the participant attains age 55 and using the annuitant mortality tables for the period ages 55 and above. Similarly, for a 45-year-old terminated vested participant who is projected to commence an annuity at age 65, the funding target is determined using the non-annuitant mortality tables for the period before the participant attains age 65 and using the annuitant mortality tables for ages 65 and above.

(c) Static mortality tables—(1) Availability of alternative tables for small plans—(i) In general. As an alternative to the generational mortality tables defined in paragraph (b) of this section, static mortality tables may be used for a small plan. The static mortality tables described in this paragraph (c) are constructed from the separate non-annuitant and annuitant static mortality tables described in paragraph (c)(2)(i) of this section, combined using the procedure described in paragraph (c)(2)(ii) of this section.

(ii) Definition of small plan. For purposes of this paragraph (c), a small plan is defined as a plan with 500 or fewer total participants (including both active and inactive participants and beneficiaries of deceased participants) on the valuation date.

(iii) Use of static mortality tables. The static mortality tables that are used for a valuation date are the static mortality tables for the calendar year that includes the valuation date.

(iv) Publication of mortality tables. The static mortality tables for the 2023 calendar year are set forth in paragraph (e) of this section.

Note 2 to paragraph (c)(1)(iv): The static mortality tables for valuation dates for later calendar years will be published in the Internal Revenue Bulletin. See § 601.601(d) of this chapter.

(2) Development of static mortality tables—(i) Non-annuitant and annuitant mortality tables. The non-annuitant and annuitant static mortality tables are determined using the base mortality tables described in paragraph (b)(1)(ii) of this section. The rates in those base mortality tables are adjusted using the mortality improvement rates described in paragraph (b)(1)(iii) of this section, in accordance with the rules set forth in paragraph (c)(3) of this section.

(ii) Combined static mortality tables. The static mortality tables described in this paragraph (c) are constructed from the separate non-annuitant and annuitant static mortality tables pursuant to paragraph (c)(2)(i) of this section, blended using the weighting factors in paragraph (d) of this section. The weighting factors are applied to develop these combined static tables using the following equation: Combined mortality rate = [non-annuitant rate * (1−weighting factor)] + [annuitant rate * weighting factor].

(3) Projection of mortality improvements—(i) General rule. Except as provided in paragraph (c)(3)(iii) of this section, the static mortality tables for a calendar year are determined by multiplying the applicable mortality rate for each age from the base mortality tables by both—

(A) The cumulative mortality improvement factor (determined under paragraph (b)(2)(ii) of this section) for the period from 2012 through that calendar year; and

(B) The cumulative mortality improvement factor (determined under paragraph (b)(2)(ii) of this section) for the period beginning in that calendar year and continuing beyond that calendar year for the number of years in the projection period described in paragraph (c)(3)(ii) of this section.

(ii) Projection period for static mortality tables—(A) In general. The projection period is 8 years for males and 9 years for females, as adjusted based on age as provided in paragraph (c)(3)(ii)(B) of this section.

(B) Age adjustment. For ages below 80, the projection period is increased by 1 year for each year below age 80. For ages above 80, the projection period is reduced (but not below zero) by ⅓ year for each year above 80.

(iii) Fractional projection periods. If for an age the number of years in the projection period determined under paragraph (c)(3)(ii) of this section is not a whole number, then the mortality rate for that age is determined by using linear interpolation between—

(A) The mortality rate for that age that would be determined under paragraph (c)(3)(i) of this section if the number of years in the projection period were the next lower whole number; and

(B) The mortality rate for that age that would be determined under paragraph (c)(3)(i) of this section if the number of years in the projection period were the next higher whole number.

(iv) Example. For example, at age 85 the projection period for a male is 6⅓ years (8 years minus ⅓ year for each of the 5 years above age 80). For a valuation date in 2023, the mortality rate in the static mortality table for an 85-year-old male is based on a projection of mortality improvement for 6⅓ years beyond 2023. Under paragraph (c)(3)(iii) of this section, the mortality rate for an 85-year-old male annuitant in the static mortality table for 2023 is ⅔ times the projected mortality rate for a male annuitant that age in 2029 plus ⅓ times the projected mortality rate for a male annuitant that age in 2030. Accordingly, the mortality rate for an 85-year-old male annuitant in the static mortality table for 2023 is 0.07967 (⅔ times the projected mortality rate for an 85-year-old male annuitant in 2029 (0.07986) plus ⅓ times the projected mortality rate for an 85-year-old male annuitant in 2030 (0.07928)).

(d) Base mortality tables. The following are the base mortality tables. The base year for these tables is 2012.

Table 2 to Paragraph (d)
Age | Males: Non-annuitant | Males: Annuitant | Males: Weighting factor for small plans | Females: Non-annuitant | Females: Annuitant | Females: Weighting factor for small plans
0 | 0.00650 | 0.00650 | 0.0000 | 0.00544 | 0.00544 | 0.0000
1 | 0.00045 | 0.00045 | 0.0000 | 0.00038 | 0.00038 | 0.0000
2 | 0.00030 | 0.00030 | 0.0000 | 0.00023 | 0.00023 | 0.0000
3 | 0.00022 | 0.00022 | 0.0000 | 0.00018 | 0.00018 | 0.0000
4 | 0.00019 | 0.00019 | 0.0000 | 0.00013 | 0.00013 | 0.0000
5 | 0.00016 | 0.00016 | 0.0000 | 0.00012 | 0.00012 | 0.0000
6 | 0.00014 | 0.00014 | 0.0000 | 0.00011 | 0.00011 | 0.0000
7 | 0.00013 | 0.00013 | 0.0000 | 0.00010 | 0.00010 | 0.0000
8 | 0.00011 | 0.00011 | 0.0000 | 0.00009 | 0.00009 | 0.0000
9 | 0.00009 | 0.00009 | 0.0000 | 0.00009 | 0.00009 | 0.0000
10 | 0.00008 | 0.00008 | 0.0000 | 0.00009 | 0.00009 | 0.0000
11 | 0.00009 | 0.00009 | 0.0000 | 0.00009 | 0.00009 | 0.0000
12 | 0.00013 | 0.00013 | 0.0000 | 0.00010 | 0.00010 | 0.0000
13 | 0.00017 | 0.00017 | 0.0000 | 0.00012 | 0.00012 | 0.0000
14 | 0.00022 | 0.00022 | 0.0000 | 0.00013 | 0.00013 | 0.0000
15 | 0.00028 | 0.00028 | 0.0000 | 0.00013 | 0.00013 | 0.0000
16 | 0.00034 | 0.00034 | 0.0000 | 0.00014 | 0.00014 | 0.0000
17 | 0.00040 | 0.00040 | 0.0000 | 0.00015 | 0.00015 | 0.0000
18 | 0.00046 | 0.00046 | 0.0000 | 0.00015 | 0.00015 | 0.0000
19 | 0.00053 | 0.00053 | 0.0000 | 0.00015 | 0.00015 | 0.0000
20 | 0.00056 | 0.00056 | 0.0000 | 0.00015 | 0.00015 | 0.0000
21 | 0.00056 | 0.00056 | 0.0000 | 0.00015 | 0.00015 | 0.0000
22 | 0.00056 | 0.00056 | 0.0000 | 0.00016 | 0.00016 | 0.0000
23 | 0.00055 | 0.00055 | 0.0000 | 0.00018 | 0.00018 | 0.0000
24 | 0.00055 | 0.00055 | 0.0000 | 0.00019 | 0.00019 | 0.0000
25 | 0.00054 | 0.00054 | 0.0000 | 0.00019 | 0.00019 | 0.0000
26 | 0.00054 | 0.00054 | 0.0000 | 0.00019 | 0.00019 | 0.0000
27 | 0.00054 | 0.00054 | 0.0000 | 0.00020 | 0.00020 | 0.0000
28 | 0.00054 | 0.00054 | 0.0000 | 0.00020 | 0.00020 | 0.0000
29 | 0.00054 | 0.00054 | 0.0000 | 0.00020 | 0.00020 | 0.0000
30 | 0.00055 | 0.00055 | 0.0000 | 0.00021 | 0.00021 | 0.0000
31 | 0.00055 | 0.00055 | 0.0000 | 0.00022 | 0.00022 | 0.0000
32 | 0.00056 | 0.00056 | 0.0000 | 0.00023 | 0.00023 | 0.0000
33 | 0.00058 | 0.00058 | 0.0000 | 0.00025 | 0.00025 | 0.0000
34 | 0.00059 | 0.00059 | 0.0000 | 0.00026 | 0.00026 | 0.0000
35 | 0.00061 | 0.00061 | 0.0000 | 0.00028 | 0.00028 | 0.0000
36 | 0.00063 | 0.00063 | 0.0000 | 0.00031 | 0.00031 | 0.0000
37 | 0.00065 | 0.00065 | 0.0000 | 0.00034 | 0.00034 | 0.0000
38 | 0.00068 | 0.00068 | 0.0000 | 0.00036 | 0.00036 | 0.0000
39 | 0.00071 | 0.00071 | 0.0000 | 0.00040 | 0.00040 | 0.0000
40 | 0.00074 | 0.00074 | 0.0000 | 0.00043 | 0.00043 | 0.0000
41 | 0.00077 | 0.00082 | 0.0008 | 0.00047 | 0.00049 | 0.0010
42 | 0.00081 | 0.00099 | 0.0016 | 0.00051 | 0.00061 | 0.0020
43 | 0.00086 | 0.00124 | 0.0024 | 0.00055 | 0.00078 | 0.0030
44 | 0.00091 | 0.00158 | 0.0032 | 0.00060 | 0.00101 | 0.0040
45 | 0.00097 | 0.00200 | 0.0040 | 0.00065 | 0.00130 | 0.0051
46 | 0.00105 | 0.00251 | 0.0047 | 0.00071 | 0.00165 | 0.0061
47 | 0.00113 | 0.00310 | 0.0055 | 0.00077 | 0.00206 | 0.0071
48 | 0.00123 | 0.00378 | 0.0063 | 0.00083 | 0.00252 | 0.0081
49 | 0.00134 | 0.00454 | 0.0071 | 0.00090 | 0.00304 | 0.0091
50 | 0.00147 | 0.00539 | 0.0079 | 0.00098 | 0.00362 | 0.0101
51 | 0.00161 | 0.00544 | 0.0140 | 0.00107 | 0.00426 | 0.0185
52 | 0.00177 | 0.00565 | 0.0209 | 0.00116 | 0.00495 | 0.0262
53 | 0.00194 | 0.00588 | 0.0302 | 0.00126 | 0.00500 | 0.0349
54 | 0.00213 | 0.00616 | 0.0430 | 0.00137 | 0.00512 | 0.0449
55 | 0.00234 | 0.00647 | 0.0898 | 0.00148 | 0.00517 | 0.0853
56 | 0.00257 | 0.00686 | 0.1676 | 0.00161 | 0.00522 | 0.1535
57 | 0.00281 | 0.00728 | 0.2153 | 0.00175 | 0.00528 | 0.1923
58 | 0.00308 | 0.00770 | 0.2635 | 0.00190 | 0.00561 | 0.2291
59 | 0.00338 | 0.00811 | 0.3144 | 0.00206 | 0.00601 | 0.2680
60 | 0.00369 | 0.00848 | 0.3821 | 0.00224 | 0.00643 | 0.3192
61 | 0.00403 | 0.00882 | 0.4579 | 0.00243 | 0.00690 | 0.3731
62 | 0.00441 | 0.00918 | 0.5935 | 0.00264 | 0.00743 | 0.4705
63 | 0.00481 | 0.00960 | 0.7153 | 0.00287 | 0.00796 | 0.5668
64 | 0.00525 | 0.01014 | 0.7764 | 0.00312 | 0.00859 | 0.6230
65 | 0.00573 | 0.01087 | 0.8454 | 0.00339 | 0.00928 | 0.7172
66 | 0.00636 | 0.01178 | 0.9002 | 0.00380 | 0.01003 | 0.8006
67 | 0.00706 | 0.01288 | 0.9275 | 0.00427 | 0.01089 | 0.8414
68 | 0.00784 | 0.01418 | 0.9431 | 0.00480 | 0.01192 | 0.8658
69 | 0.00870 | 0.01564 | 0.9547 | 0.00540 | 0.01309 | 0.8857
70 | 0.00967 | 0.01729 | 0.9642 | 0.00606 | 0.01444 | 0.9046
71 | 0.01073 | 0.01914 | 0.9732 | 0.00681 | 0.01597 | 0.9240
72 | 0.01192 | 0.02121 | 0.9791 | 0.00765 | 0.01770 | 0.9365
73 | 0.01323 | 0.02354 | 0.9823 | 0.00860 | 0.01967 | 0.9437
74 | 0.01469 | 0.02613 | 0.9847 | 0.00966 | 0.02192 | 0.9512
75 | 0.01632 | 0.02905 | 0.9868 | 0.01085 | 0.02445 | 0.9568
76 | 0.01812 | 0.03233 | 0.9889 | 0.01219 | 0.02727 | 0.9637
77 | 0.02012 | 0.03604 | 0.9906 | 0.01370 | 0.03042 | 0.9682
78 | 0.02234 | 0.04026 | 0.9920 | 0.01539 | 0.03391 | 0.9727
79 | 0.02480 | 0.04504 | 0.9935 | 0.01729 | 0.03775 | 0.9765
80 | 0.02754 | 0.05046 | 1.0000 | 0.01943 | 0.04198 | 1.0000
81 | 0.02989 | 0.05657 | 1.0000 | 0.02134 | 0.04663 | 1.0000
82 | 0.03460 | 0.06343 | 1.0000 | 0.02516 | 0.05178 | 1.0000
83 | 0.04166 | 0.07114 | 1.0000 | 0.03089 | 0.05754 | 1.0000
84 | 0.05108 | 0.07977 | 1.0000 | 0.03853 | 0.06401 | 1.0000
85 | 0.06285 | 0.08946 | 1.0000 | 0.04808 | 0.07132 | 1.0000
86 | 0.07698 | 0.10032 | 1.0000 | 0.05955 | 0.07954 | 1.0000
87 | 0.09346 | 0.11248 | 1.0000 | 0.07293 | 0.08879 | 1.0000
88 | 0.11229 | 0.12600 | 1.0000 | 0.08822 | 0.09936 | 1.0000
89 | 0.13348 | 0.14088 | 1.0000 | 0.10542 | 0.11124 | 1.0000
90 | 0.15703 | 0.15703 | 1.0000 | 0.12453 | 0.12453 | 1.0000
91 | 0.17401 | 0.17401 | 1.0000 | 0.13818 | 0.13818 | 1.0000
92 | 0.19151 | 0.19151 | 1.0000 | 0.15250 | 0.15250 | 1.0000
93 | 0.20936 | 0.20936 | 1.0000 | 0.16737 | 0.16737 | 1.0000
94 | 0.22742 | 0.22742 | 1.0000 | 0.18274 | 0.18274 | 1.0000
95 | 0.24569 | 0.24569 | 1.0000 | 0.19863 | 0.19863 | 1.0000
96 | 0.26415 | 0.26415 | 1.0000 | 0.21509 | 0.21509 | 1.0000
97 | 0.28281 | 0.28281 | 1.0000 | 0.23214 | 0.23214 | 1.0000
98 | 0.30169 | 0.30169 | 1.0000 | 0.24983 | 0.24983 | 1.0000
99 | 0.32077 | 0.32077 | 1.0000 | 0.26814 | 0.26814 | 1.0000
100 | 0.33996 | 0.33996 | 1.0000 | 0.28698 | 0.28698 | 1.0000
101 | 0.35910 | 0.35910 | 1.0000 | 0.30619 | 0.30619 | 1.0000
102 | 0.37794 | 0.37794 | 1.0000 | 0.32549 | 0.32549 | 1.0000
103 | 0.39633 | 0.39633 | 1.0000 | 0.34472 | 0.34472 | 1.0000
104 | 0.41415 | 0.41415 | 1.0000 | 0.36375 | 0.36375 | 1.0000
105 | 0.43131 | 0.43131 | 1.0000 | 0.38243 | 0.38243 | 1.0000
106 | 0.44771 | 0.44771 | 1.0000 | 0.40065 | 0.40065 | 1.0000
107 | 0.46329 | 0.46329 | 1.0000 | 0.41828 | 0.41828 | 1.0000
108 | 0.47800 | 0.47800 | 1.0000 | 0.43522 | 0.43522 | 1.0000
109 | 0.49181 | 0.49181 | 1.0000 | 0.45139 | 0.45139 | 1.0000
110 | 0.50000 | 0.50000 | 1.0000 | 0.46673 | 0.46673 | 1.0000
111 | 0.50000 | 0.50000 | 1.0000 | 0.48120 | 0.48120 | 1.0000
112 | 0.50000 | 0.50000 | 1.0000 | 0.49477 | 0.49477 | 1.0000
113 | 0.50000 | 0.50000 | 1.0000 | 0.50000 | 0.50000 | 1.0000
114 | 0.50000 | 0.50000 | 1.0000 | 0.50000 | 0.50000 | 1.0000
115 | 0.50000 | 0.50000 | 1.0000 | 0.50000 | 0.50000 | 1.0000
116 | 0.50000 | 0.50000 | 1.0000 | 0.50000 | 0.50000 | 1.0000
117 | 0.50000 | 0.50000 | 1.0000 | 0.50000 | 0.50000 | 1.0000
118 | 0.50000 | 0.50000 | 1.0000 | 0.50000 | 0.50000 | 1.0000
119 | 0.50000 | 0.50000 | 1.0000 | 0.50000 | 0.50000 | 1.0000
120 | 1.00000 | 1.00000 | 1.0000 | 1.00000 | 1.00000 | 1.0000

(e) Static tables for 2023. The following static mortality tables are used pursuant to paragraph (a)(1)(ii) of this section for determining present value or making any computation under section 430 with respect to valuation dates occurring during 2023.

Table 3 to Paragraph (e)
Age | Male | Female
0 | 0.00226 | 0.00194
1 | 0.00016 | 0.00014
2 | 0.00011 | 0.00008
3 | 0.00008 | 0.00007
4 | 0.00007 | 0.00005
5 | 0.00006 | 0.00005
6 | 0.00005 | 0.00004
7 | 0.00005 | 0.00004
8 | 0.00004 | 0.00004
9 | 0.00004 | 0.00004
10 | 0.00003 | 0.00004
11 | 0.00004 | 0.00004
12 | 0.00005 | 0.00004
13 | 0.00007 | 0.00005
14 | 0.00009 | 0.00006
15 | 0.00012 | 0.00006
16 | 0.00015 | 0.00006
17 | 0.00017 | 0.00007
18 | 0.00020 | 0.00007
19 | 0.00024 | 0.00007
20 | 0.00026 | 0.00007
21 | 0.00026 | 0.00007
22 | 0.00027 | 0.00008
23 | 0.00027 | 0.00009
24 | 0.00028 | 0.00010
25 | 0.00029 | 0.00010
26 | 0.00030 | 0.00011
27 | 0.00032 | 0.00012
28 | 0.00033 | 0.00012
29 | 0.00035 | 0.00013
30 | 0.00037 | 0.00014
31 | 0.00038 | 0.00015
32 | 0.00040 | 0.00016
33 | 0.00043 | 0.00018
34 | 0.00045 | 0.00018
35 | 0.00048 | 0.00020
36 | 0.00051 | 0.00022
37 | 0.00053 | 0.00024
38 | 0.00055 | 0.00026
39 | 0.00058 | 0.00028
40 | 0.00059 | 0.00029
41 | 0.00061 | 0.00031
42 | 0.00063 | 0.00033
43 | 0.00065 | 0.00035
44 | 0.00067 | 0.00037
45 | 0.00069 | 0.00039
46 | 0.00073 | 0.00042
47 | 0.00078 | 0.00046
48 | 0.00083 | 0.00049
49 | 0.00088 | 0.00053
50 | 0.00097 | 0.00059
51 | 0.00106 | 0.00065
52 | 0.00118 | 0.00074
53 | 0.00132 | 0.00084
54 | 0.00148 | 0.00094
55 | 0.00176 | 0.00113
56 | 0.00217 | 0.00140
57 | 0.00254 | 0.00161
58 | 0.00296 | 0.00188
59 | 0.00342 | 0.00218
60 | 0.00396 | 0.00254
61 | 0.00456 | 0.00294
62 | 0.00539 | 0.00354
63 | 0.00623 | 0.00418
64 | 0.00693 | 0.00476
65 | 0.00779 | 0.00555
66 | 0.00874 | 0.00640
67 | 0.00972 | 0.00717
68 | 0.01081 | 0.00798
69 | 0.01201 | 0.00893
70 | 0.01337 | 0.01002
71 | 0.01490 | 0.01130
72 | 0.01663 | 0.01276
73 | 0.01858 | 0.01442
74 | 0.02081 | 0.01636
75 | 0.02336 | 0.01858
76 | 0.02629 | 0.02115
77 | 0.02966 | 0.02406
78 | 0.03353 | 0.02736
79 | 0.03796 | 0.03106
80 | 0.04313 | 0.03557
81 | 0.04868 | 0.04000
82 | 0.05503 | 0.04498
83 | 0.06223 | 0.05058
84 | 0.07040 | 0.05694
85 | 0.07967 | 0.06416
86 | 0.09014 | 0.07229
87 | 0.10191 | 0.08147
88 | 0.11507 | 0.09197
89 | 0.12960 | 0.10372
90 | 0.14540 | 0.11681
91 | 0.16201 | 0.13032
92 | 0.17900 | 0.14437
93 | 0.19623 | 0.15892
94 | 0.21351 | 0.17370
95 | 0.23063 | 0.18881
96 | 0.24879 | 0.20508
97 | 0.26725 | 0.22194
98 | 0.28591 | 0.23947
99 | 0.30502 | 0.25760
100 | 0.32431 | 0.27640
101 | 0.34372 | 0.29564
102 | 0.36307 | 0.31511
103 | 0.38223 | 0.33471
104 | 0.40097 | 0.35426
105 | 0.41863 | 0.37356
106 | 0.43581 | 0.39243
107 | 0.45234 | 0.41085
108 | 0.46796 | 0.42844
109 | 0.48288 | 0.44529
110 | 0.49240 | 0.46134
111 | 0.49374 | 0.47665
112 | 0.49507 | 0.49112
113 | 0.49651 | 0.49746
114 | 0.49795 | 0.49840
115 | 0.49930 | 0.49950
116 | 0.49960 | 0.49975
117 | 0.49980 | 0.49985
118 | 0.49995 | 0.50000
119 | 0.50000 | 0.50000
120 | 1.00000 | 1.00000

(f) Applicability date. This section applies for plan years beginning on or after January 1, 2023.

Par. 3. Section 1.431(c)(6)-1 is revised to read as follows:

§ 1.431(c)(6)-1 Mortality tables used to determine current liability.

(a) Mortality tables used to determine current liability. In accordance with section 431(c)(6)(D), the mortality assumptions that apply to a single-employer defined benefit plan for the plan year pursuant to sections 430(h)(3)(A) and 430(h)(3)(D) and §§ 1.430(h)(3)-1(a)(1) and (a)(2)(ii) are used to determine a multiemployer plan's current liability for purposes of applying the rules of section 431(c)(6). For purposes of this paragraph (a), either the generational mortality tables used pursuant to § 1.430(h)(3)-1(b) or the static mortality tables used pursuant to § 1.430(h)(3)-1(c) are permitted to be used without regard to whether the plan is a small plan. However, substitute mortality tables under §§ 1.430(h)(3)-1(a)(2)(i) and 1.430(h)(3)-2 are not permitted to be used for purposes of this paragraph (a).

(b) Applicability date. This section applies for plan years beginning on or after January 1, 2023.

Par. 4. Section 1.433(h)(3)-1 is revised to read as follows:

§ 1.433(h)(3)-1 Mortality tables used to determine current liability.

(a) Mortality tables used to determine current liability. In accordance with section 433(h)(3)(B), the mortality assumptions that apply to a single-employer defined benefit plan for the plan year pursuant to sections 430(h)(3)(A) and 430(h)(3)(D) and §§ 1.430(h)(3)-1(a)(1) and (a)(2)(ii) are used to determine a cooperative and small-employer charity (CSEC) plan's current liability under section 433(h). For purposes of this paragraph (a), either the generational mortality tables used pursuant to § 1.430(h)(3)-1(b) or the static mortality tables used pursuant to § 1.430(h)(3)-1(c) are permitted to be used without regard to whether the plan is a small plan. However, substitute mortality tables under §§ 1.430(h)(3)-1(a)(2)(i) and 1.430(h)(3)-2 are not permitted to be used for purposes of this paragraph (a).

(b) Applicability date. This section applies for plan years beginning on or after January 1, 2023.

Douglas W. O'Donnell,
Deputy Commissioner for Services and Enforcement.

[FR Doc. 2022-06330 Filed 4-27-22; 8:45 am]

BILLING CODE 4830-01-P